DEPARTMENT OF COMMERCE

National Oceanic and Atmospheric Administration

[I.D. 042202F]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene public meetings.

DATES: The meetings will be held on May 13-16, 2002.

ADDRESSES: These meetings will be held at the Hilton Sandestin Beach & Golf Resort, 4000 Sandestin Boulevard South, Destin, FL 32550; telephone: 850-267-9500.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

May 15

8:30 a.m.—Convene.

8:45 a.m.-11:30 a.m.—Receive public testimony on Draft Shrimp Amendment 10/Environmental Assessment/Regulatory Impact Review (EA/RIR), the Secretarial Greater Amberjack Rebuilding Amendment, and the Secretarial Red Grouper Amendment. Although the Council will hear public testimony on the Secretarial Red Grouper Amendment, final action will not be taken until the July 8-12, 2002 Council meeting in Sarasota, FL.

1 p.m.-5 p.m.—Continue public testimony if necessary.

May 16

8:30 a.m.- 9 a.m.—Receive a report of the Shrimp Management Committee.

9 a.m.-11:30 a.m.—Receive the report of the Reef Fish Management Committee.

1 p.m.-1:15 p.m.—Receive a report of the Spiny Lobster Management Committee.

1:15 p.m.-2 p.m.—Receive a report of the Habitat Protection Committee.

2 p.m.-2:15 p.m.—Receive a report of the Data Collection Committee.

2:15 p.m.-2:30 p.m.—Receive a report of the Personnel Committee.

2:30 p.m.-2:45 p.m.—Receive a report of the NMFS Billfish Advisory Panel (AP) meeting.

2:45 p.m.-3 p.m.—Receive a report of the NMFS Highly Migratory Species AP meeting.

3 p.m. -3:15 p.m.—Receive a report of the Gulf Safety Committee meeting.

3:15 p.m.-3:30 p.m.—Receive the Council Coral Grants report.

3:45 p.m.—Receive Enforcement Reports.

3:45 p.m.- 4 p.m.—Receive the NMFS Regional Administrator’s Report.

4 p.m.-4:30 p.m.—Receive Director’s Reports.

4:30 p.m.- 4:45 p.m.—Other Business.

Committees

May 13

9 a.m.-11:30 a.m.—Convene the Shrimp Management Committee to hear a staff presentation on a revised Draft Shrimp Amendment 10/EA/RIR and develop recommendations for final action by the full Council on Thursday morning. They will also have a presentation on the effects of shrimp trawling on the environment.

1 p.m.-2:30 p.m.—Convene the Data Collection Committee to hear presentations on the Gulf States Marine Fisheries Commission (GSMFC) Recreational Fisheries Information Network (RecFIN) and Commercial Fisheries Information Network (Com/FIN) Programs and the Marine Recreational Fishery Statistics Survey (MRFSS) Artificial Reef Data Program.

2:30 p.m.-5:30 p.m.—Convene the Habitat Protection Committee to review an Options Paper for an Essential Fish Habitat (EFH) Programmatic Environmental Impact Statement (PEIS) document.

May 14

8:30 a.m.-9 a.m.—Convene the Spiny Lobster Management Committee to review a proposal to increase possession of undersized lobster.

9 a.m.-11:30 a.m.—Convene the Reef Fish Management Committee to hear a status report on jewfish (goliath grouper) and an evaluation of gag marine reserves. They will also make recommendations for the completion of Secretarial Amendment 2 for Rebuilding Amberjack, a Reef Fish Amendment 21 Scoping Document for Extension of Marine Reserves Rule, and a Regulatory Amendment for Gag and Greater Amberjack Status Determination Criteria. They will hear a progress report of the Ad Hoc Red Snapper AP on development of individual fishing quotas (IFQ) profile, and review Draft Secretarial Amendment 1 for Red Grouper/Supplementary Environmental Impact Statement (SEIS). The full Council will consider these recommendations on Thursday.

1 p.m.-5 p.m.—Continue the Reef Fish Management Committee.

Although non-emergency issues not contained in the agenda may come before the Council for discussion, in accordance with the Magnuson-Stevens Fishery Conservation and Management Act (Magnuson Act), those issues may not be the subject of formal Council action during this meeting. Council action will be restricted to those issues specifically identified in this notice and any issues arising after publication of this notice that require emergency action under section 305 (c) of the Magnuson Act, provided the public has been notified of the Council’s intent to take final action to address the emergency.

A copy of the Committee schedule and agenda can be obtained by calling (813) 228-2815.

Special Accommodations

These meetings are physically accessible to people with disabilities. Requests for sign language interpretation or other auxiliary aids should be directed to Anne Alford at the Council (see ADDRESSES) by May 6, 2002.

Dated: April 24, 2002.
Theophilus R. Brainerd,
Acting Director, Office of Sustainable Fisheries, National Marine Fisheries Service.

[FR Doc. 02-10486 Filed 4-26-02; 8:45 am]

BILLING CODE 3510-22-S